DEPARTMENT OF TRANSPORTATION

Federal Aviation Administration

14 CFR Part 39

[Docket No. 2002-NE-08-AD; Amendment 39-12865; AD 2002-16-26]

RIN 2120-AA64

Airworthiness Directives; Bombardier-Rotax GmbH Type 912 F and 914 F Series Reciprocating Engines

AGENCY: Federal Aviation Administration, DOT.

ACTION: Final rule; request for comments.

SUMMARY: This amendment adopts a new airworthiness directive (AD) that is applicable to certain serial numbers (SN's) of Bombardier-Rotax GmbH type 912 F and 914 F series reciprocating engines. This action requires initial and repetitive visual inspections of the engine crankcase for cracks. This amendment is prompted by reports of several instances of engine crankcases found cracked in service. The actions specified in this AD are intended to prevent oil loss caused by cracks in the engine crankcase, which could lead to in-flight failure of the engine and forced landing.

DATES: Effective September 16, 2002.

Comments for inclusion in the Rules Docket must be received on or before October 15, 2002.

ADDRESSES: Submit comments in triplicate to the Federal Aviation Administration (FAA), New England Region, Office of the Regional Counsel, Attention: Rules Docket No. 2002-NE-08-AD, 12 New England Executive Park, Burlington, MA 01803-5299. Comments may be inspected at this location, by appointment, between 8 a.m. and 4:30 p.m., Monday through Friday, except Federal holidays. Comments may also be sent via the Internet using the following address: “9-ane-adcomment@faa.gov”. Comments sent via the Internet must contain the docket number in the subject line. Information regarding this action may be examined, by appointment, at the FAA, New England Region, Office of the Regional Counsel, 12 New England Executive Park, Burlington, MA.

FOR FURTHER INFORMATION CONTACT: James Lawrence, Aerospace Engineer, Engine Certification Office, FAA, Engine and Propeller Directorate, 12 New England Executive Park, Burlington, MA 01803-5299; telephone (781) 238-7176; fax (781) 238-7199.

SUPPLEMENTARY INFORMATION: Austro Control, which is the airworthiness authority for Austria, recently notified the FAA that an unsafe condition may exist on certain SN's of Bombardier-Rotax GmbH type 912 F and 914 F series reciprocating engines. Austro Control advises that reports have been received of three engine crankcases found cracked in service. To date, there have been no engine failures due to cracks in the crankcase. However, Austro Control has determined that an engine could fail due to oil loss from a cracked crankcase. This condition, if not corrected, could result in an inflight failure of the engine and forced landing.

Bilateral Airworthiness Agreement

Bombardier-Rotax GmbH type 912 F and 914 F series reciprocating engines are manufactured in Austria and are type certificated for operation in the United States under the provisions of § 21.29 of the Federal Aviation Regulations (14 CFR 21.29) and the applicable bilateral airworthiness agreement. Pursuant to this bilateral airworthiness agreement, Austro Control has kept the FAA informed of the situation described above. The FAA has examined the findings of Austro Control, reviewed all available information, and determined that AD action is necessary for products of this type design that are certificated for operation in the United States.

FAA's Determination of an Unsafe Condition and Required Actions

Since an unsafe condition has been identified that is likely to exist or develop on other Bombardier-Rotax GmbH type 912 F and 914 F series reciprocating engines of the same type design, this AD is being issued to prevent oil loss caused by cracks in the engine crankcase, which could lead to in-flight failure of the engine and forced landing. This AD requires initial visual inspection for cracks of the engine crankcase of certain SN engines, within 50 hours time-in-service (TIS) after the effective date of this AD, and repetitive visual inspections at each 100-hour, annual, or progressive inspection, or within 110 hours TIS since last inspection, whichever occurs first. If any cracks are found the engine must be replaced with a serviceable engine. The SN's affected are, for 912 F series engines, SN's 4,412.796 or lower, and for 914 F series engines, SN's 4,420.313 or lower. Examples of lower SN's are 4,412.795, 4,412.794, and 4,412.793, and 4,420.312, 4,420.311, and 4,420.310.

Immediate Adoption of This AD

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this action must submit a self-addressed, stamped postcard on which the following statement is made: “Comments to Docket Number 2002-NE-08-AD.” The postcard will be date stamped and returned to the commenter.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

The FAA has determined that this regulation is an emergency regulation that must be issued immediately to correct an unsafe condition in aircraft, and is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-16-26 Bombardier-Rotax GmbH: Amendment 39-12865. Docket No. 2002-NE-08-AD.

Applicability

This airworthiness directive (AD) is applicable to Bombardier-Rotax GmbH type 912 F series reciprocating engines serial number (SN) 4,412.796, or lower, and 914 F series reciprocating engines SN 4,420.313, or lower. These engines are installed on, but not limited to, Aeromot-Industria Mecanico Metalurgica Itda. model AMT-300, Diamond Aircraft Industries DA20-A1, Diamond Aircraft Industries GmbH Model HK 36 TTS, Iniziative Industriali Italiane S.p.A. Sky Arrow 650 series, and Stemme S10-VT aircraft.

Note 1: Examples of lower SN's are 4,412.795, 4,412.794, and 4,412.793, and 4,420.312, 4,420.311, and 4,420.310.

Note 2: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance

Compliance with this AD is required as indicated, unless already done.

To prevent oil loss caused by cracks in the engine crankcase, which could lead to in-flight failure of the engine and forced landing, do the following:

Initial Inspection

(a) Within 50 hours time-in-service (TIS) from the effective date of this AD, perform a visual inspection as follows:

(1) Inspect the engine crankcase (item 1, Figure 1 of this AD) for cracks especially in the area of cylinder 1 upper side (item 2), between cylinder 1 and 3 upper side (item 3), and cylinder 4 lower side (item 4).

BILLING CODE 4910-13-P

BILLING CODE 4910-13-C

(2) Cracks in crankcases of engines with a ROTAX cooling air baffle may not be easily visible, and oil leaks may be an indication of cracks. Visually inspect for oil leaks in areas of (item 2) and (item 3).

(3) If oil leaks are found, determine the source by either using a borescope or removing the object blocking the view such as the air baffle or accessory, and perform the inspection.

(4) If the engine crankcase is cracked, replace engine before further flight. Repair oil leaks from any other cause.

Note 3: Information concerning this inspection can be found in Bombardier-Rotax mandatory service bulletins No's. SB-912-029, dated May 2001/SB-914-018, Revision 1, dated December 2001.

Repetitive Inspections

(b) Visually inspect the engine crankcase (item 1, Figure 1 of this AD) for cracks at each 100-hour, annual, or progressive inspection, or within 110 hours TIS since last inspection, whichever occurs first, in accordance with paragraph (a) of this AD.

Alternative Methods of Compliance

(c) An alternative method of compliance or adjustment of the compliance time that provides an acceptable level of safety may be used if approved by the Manager, Engine Certification Office (ECO). Operators must submit their requests through an appropriate FAA Principal Maintenance Inspector, who may add comments and then send it to the Manager, ECO.

Note 4: Information concerning the existence of approved alternative methods of compliance with this airworthiness directive, if any, may be obtained from the ECO.

Special Flight Permits

(d) Special flight permits may be issued in accordance with §§ 21.197 and 21.199 of the Federal Aviation Regulations (14 CFR 21.197 and 21.199) to operate the aircraft to a location where the requirements of this AD can be done.

Note 5: The subject of this AD is addressed in Austro Control airworthiness directive No. 107 R1, dated December 1, 2001.

Effective Date

(e) This amendment becomes effective on August 30, 2002.

Issued in Burlington, Massachusetts, on August 7, 2002.
Jay J. Pardee,
Manager, Engine and Propeller Directorate, Aircraft Certification Service.

[FR Doc. 02-20679 Filed 8-14-02; 8:45 am]

BILLING CODE 4910-13-P